DEPARTMENT OF ENERGY

Federal Energy Regulatory Commission

Combined Notice of Filings

Take notice that the Commission has received the following Natural Gas Pipeline Rate and Refund Report filings:

Filings Instituting Proceedings

Docket Numbers: CP16-121-001.

Applicants: National Grid LNG.

Description: Abbreviated Application of National Grid LNG, LLC for Limited Amendment to Certificate of Public Convenience and Necessity.

Filed Date: 04/15/2022.

Accession Number: 20220415-5330.

Accession Number: 5 p.m. ET 4/29/22.

Docket Numbers: RP22-826-000.

Applicants: Tres Palacios Gas Storage LLC.

Description: Compliance filing: Annual Report of Blanket Certificate Activities to be effective N/A.

Filed Date: 4/19/22.

Accession Number: 20220419-5123.

Comment Date: 5 p.m. ET 5/2/22.

Docket Numbers: RP22-826-000.

Applicants: Tres Palacios Gas Storage LLC.

Description: Compliance filing: Annual Report of Replacement Certificate Facilities to be effective N/A.

Filed Date: 4/19/22.

Accession Number: 20220419-5124.

Comment Date: 5 p.m. ET 5/2/22.

Docket Numbers: RP22-828-000.

Applicants: El Paso Natural Gas Company, L.L.C.

Description: Compliance filing: Penalty Crediting Report for 2021 to be effective N/A.

Filed Date: 4/19/22.

Accession Number: 20220419-5125.

Comment Date: 5 p.m. ET 5/2/22.

Docket Numbers: RP22-829-000.

Applicants: Maritimes & Northeast Pipeline, L.L.C.

Description: § 4(d) Rate Filing: Negotiated Rates—Maine to Emera contract 2432 to be effective 4/20/2022.

Filed Date: 4/19/22.

Accession Number: 20220419-5191.

Comment Date: 5 p.m. ET 5/2/22.

Docket Numbers: RP22-830-000.

Applicants: Natural Gas Pipeline Company of America LLC.

Description: § 4(d) Rate Filing: Amendment to a Negotiated Rate Agreement—Macquarie Energy LLC to be effective 4/19/2022.

Filed Date: 4/19/22.

Accession Number: 20220419-5245.

Comment Date: 5 p.m. ET 5/2/22.

Docket Numbers: RP22-831-000.

Applicants: Midcontinent Express Pipeline LLC.

Description: § 4(d) Rate Filing: Fuel Tracker Filing 4/20/22 to be effective 6/1/2022.

Filed Date: 4/20/22.

Accession Number: 20220420-5098.

Comment Date: 5 p.m. ET 5/2/22.

Docket Numbers: RP22-832-000.

Applicants: Sea Robin Pipeline Company, LLC.

Description: § 4(d) Rate Filing: Update to GT&C Section 27 to be effective 5/20/2022.

Filed Date: 4/20/22.

Accession Number: 20220420-5113.

Comment Date: 5 p.m. ET 5/2/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 20, 2022.
Debbie-Anne A. Reese,
Deputy Secretary.

[FR Doc. 2022-08864 Filed 4-25-22; 8:45 am]

BILLING CODE 6717-01-P